ENVIRONMENTAL PROTECTION AGENCY

[EPA-HQ-OAR-2013-0566; FRL-9977-81-OAR]

Release of Final Documents Related to the Review of the Primary National Ambient Air Quality Standards for Sulfur Oxides

AGENCY: Environmental Protection Agency (EPA).

ACTION: Notice of availability.

SUMMARY: The Environmental Protection Agency (EPA) is announcing the availability of two final documents titled, Risk and Exposure Assessment for the Review of the Primary National Ambient Air Quality Standard for Sulfur Oxides (REA) and Policy Assessment for the Review of the Primary National Ambient Air Quality Standard for Sulfur Oxides (PA). The indicator for the current standard is sulfur dioxide (SO2). The REA describes the quantitative analyses of SO2 exposures and health risks in this NAAQS review. Building on the Integrated Science Assessment for Sulfur Oxides—Health Criteria (ISA), completed in December 2017, the PA serves to “bridge the gap” between the scientific information and the judgments required of the Administrator in determining whether to retain or revise the existing primary NAAQS for SO2.

DATES: The REA and PA will be made available on or about May 9, 2018.

ADDRESSES: These documents will be available primarily via the internet at https://www.epa.gov/naaqs/sulfur-dioxide-so2-primary-air-quality-standards.

FOR FURTHER INFORMATION CONTACT: Dr. Nicole Hagan, Office of Air Quality Planning and Standards (Mail Code C504-06), U.S. Environmental Protection Agency, Research Triangle Park, NC 27711; telephone number: 919-541-3153; fax number: 919-541-5315; email: hagan.nicole@epa.gov.

SUPPLEMENTARY INFORMATION: Two sections of the Clean Air Act govern the establishment and revision of the NAAQS. Section 108 (42 U.S.C. 7408) directs the Administrator to identify and list certain air pollutants and then to issue air quality criteria for those pollutants. The Administrator is to list those air pollutants that in his “judgment, cause or contribute to air pollution which may reasonably be anticipated to endanger public health or welfare”; “the presence of which in the ambient air results from numerous or diverse mobile or stationary sources”; and “for which . . . [the Administrator] plans to issue air quality criteria . . .” (42 U.S.C. 7408(a)(1)(A)(C)). Air quality criteria are intended to “accurately reflect the latest scientific knowledge useful in indicating the kind and extent of all identifiable effects on public health or welfare which may be expected from the presence of [a] pollutant in the ambient air . . .” (42 U.S.C. 7408(a)(2)). Under section 109 (42 U.S.C. 7409), the EPA establishes primary (health-based) and secondary (welfare-based) NAAQS for pollutants for which air quality criteria are issued. Section 109(d) requires periodic review and, if appropriate, revision of existing air quality criteria. The revised air quality criteria reflect advances in scientific knowledge on the effects of the pollutant on public health or welfare. The EPA is also required to periodically review and revise the NAAQS, if appropriate, based on the revised criteria. Section 109(d)(2) requires that an independent scientific review committee “shall complete a review of the criteria . . . and the national primary and secondary ambient air quality standards . . . and shall recommend to the Administrator any new . . . standards and revisions of the existing criteria and standards as may be appropriate . . . .” Since the early 1980s, this independent review function has been performed by the Clean Air Scientific Advisory Committee (CASAC).

The current periodic review of the air quality criteria and primary NAAQS for SOX began in 2013. The final ISA, prepared for this review by the EPA's Office of Research and Development, was made available in December 2017 (82 FR 58600).¹ The REA and PA build upon information presented in the ISA. Drafts of the REA and PA were reviewed by the CASAC SOX Panel at a public meeting held on September 18-19, 2017, and a teleconference on April 20, 2018, and were made available for public comment. The CASAC's advice on the draft documents were provided in letters to the EPA Administrator dated April 30, 2018.² The final versions of the REA and PA reflect staff's consideration of the advice and comments from CASAC, as well as public comments. The final REA and PA are available at https://www.epa.gov/naaqs/sulfur-dioxide-so2-primary-air-quality-standards.

¹ The final ISA is available at: https://www.epa.gov/naaqs/sulfur-dioxide-so2-primary-standards-integrated-science-assessments-current-review.

² The CASAC letters are available at: https://yosemite.epa.gov/sab/sabproduct.nsf/264cb1227d55e02c85257402007446a4/0125714DA9A892238525827F00751B99/$File/EPA-CASAC-18-001.pdf and https://yosemite.epa.gov/sab/sabproduct.nsf/264cb1227d55e02c85257402007446a4/23631E258D63BDEB8525827F0075335E/$File/EPA-CASAC-18-002.pdf.

Dated: May 8, 2018.
Panagiotis Tsirigotis,
Director, Office of Air Quality Planning and Standards.

[FR Doc. 2018-10242 Filed 5-14-18; 8:45 am]

BILLING CODE 6560-50-P